INTERNATIONAL TRADE COMMISSION

[Investigations Nos. 731-TA-929-931 (Final)]

Silicomanganese From India, Kazakhstan, and Venezuela

AGENCY: International Trade Commission.

ACTION: Revised schedule for the subject investigations.

EFFECTIVE DATE: January 7, 2002.

FOR FURTHER INFORMATION CONTACT: Woodley Timberlake (202-205-3188), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS-ON-LINE) at http://dockets.usitc.gov/eol/public.

SUPPLEMENTARY INFORMATION: On November 9, 2001, the Commission established a schedule for the conduct of the final phase of the subject investigations (66 FR 59596, November 29, 2001). Subsequently, the Department of Commerce extended the date for its final determinations in the investigations from January 22, 2002, to March 25, 2002 (66 FR 63522, December 7, 2001, and 66 FR 67185, December 28, 2001). The Commission, therefore, is revising its schedule to conform with Commerce's new schedule.

The Commission's new schedule for the investigations is as follows: requests to appear at the hearing must be filed with the Secretary to the Commission not later than March 21, 2002; the prehearing conference, if needed, will be held at the U.S. International Trade Commission Building at 9:30 a.m. on March 25, 2002; the prehearing staff report will be placed in the nonpublic record on March 15, 2002; the deadline for filing prehearing briefs is March 22, 2002; the hearing will be held at the U.S. International Trade Commission Building at 9:30 a.m. on April 2, 2002; the deadline for filing posthearing briefs is April 8, 2002; the Commission will make its final release of information on April 22, 2002; and final party comments are due on April 24, 2002.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: January 9, 2002.
By order of the Commission.
Marilyn R. Abbott,
Acting Secretary.

[FR Doc. 02-891 Filed 1-11-02; 8:45 am]

BILLING CODE 7020-02-P